DEPARTMENT OF HOUSING AND URBAN DEVELOPMENT

[Docket No. FR-4730-N-20]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1998 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this notice (i.e., acreage, floor plan, existing sanitary facilities, exact street address), providers should contact the appropriate landholding agencies at the following addresses: ARMY: Ms. Julie Jones-Conte, Headquarters, department of the Army, Office of the Assistant Chief of Staff for Installation management, Program Integration Office, Attn: DAIM-MD, Room 1E677, 600 Army Pentagon, Washington, DC 20310-0600; (703) 692-9223; DOT: Mr. Rugene Spruill, Principal, Space Management, SVC-140, Transportation Administrative Service Center, Department of Transportation, 400 7th Street, SW., Room 2310, Washington, DC 20590; (202) 366-4246; ENERGY: Mr. Tom Knox, Department of Energy, Office of Engineering & Construction Management, CR-80, Washington, DC 20585; (202) 586-8715; GSA: Mr. Brian K. Polly, Assistant Commissioner, General Services Administration, Office of Property Disposal, 18th and F Streets, NW., Washington, DC 20405; (202) 501-0052; INTERIOR: Ms. Linda Tribby, Acquisition & Property Management, Department of the Interior, 1849 C Street, NW., MS5512, Washington, DC 20240; (202) 219-0728; NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: May 9, 2002.
Mark R. Johnston,
Deputy Director, Office of Special Needs Assistance Programs.

Title V, Federal Surplus Property Program Federal Register Report for 5/17/02

Suitable/Available Properties

Buildings (by State)

Arizona

Bldgs. 44021-44025

Fort Huachuca

Ft. Huachuca Co: Cochise AZ 85613-

Landholding Agency: Army

Property Number: 21200220099

Status: Excess

Comment: fourplex 895 sq. ft./unit, most recent use—residential, off-site use only

Bldgs. 68818-68826

Fort Huachuca

Ft. Huachuca Co: Cochise AZ 85613-

Landholding Agency: Army

Property Number: 21200220100

Status: Excess

Comment: duplex, 1046 sq. ft./unit, most recent use—residential, off-site use only

Bldgs. 68829-68832

Fort Huachuca

Ft. Huachuca Co: Cochise AZ 85613-

Landholding Agency: Army

Property Number: 21200220101

Status: Excess

Comment: duplex, 1046 sq. ft./unit, most recent use—residential, off-site use only

Bldgs. 68833-68835

Fort Huachuca

Ft. Huachuca Co: Cochise AZ 85613-

Landholding Agency: Army

Property Number: 21200220102

Status: Excess

Comment: duplex, 1193 sq. ft./unit, most recent use—residential, off-site use only

California

Bldg. 00597

Mare Island USARC

Vallejo Co: Solano CA 94592-5100

Landholding Agency: Army

Property Number: 21200220103

Status: Excess

Comment: 9040 sq. ft., presence of asbestos/lead paint, most recent use—reserve center, off-site use only

Georgia

Quarters 5

Chattahoochee River Natl Rec Area

1425 Indian Trail

Atlanta Co: Fulton GA 30327-

Landholding Agency: Interior

Property Number: 61200220011

Status: Excess

Comment: 1200 sq. ft., most recent use—residential, off-site use only

Hawaii

Bldg 01227

Schofield Barracks

Wahiawa Co: HI 96786-

Landholding Agency: Army

Property Number: 21200220104

Status: Unutilized

Comment: 525 sq. ft., poor condition, most recent use—storage, off-site use only

Bldg. 4334

Schofield Barracks

Wahiawa Co: HI 96786-

Landholding Agency: Army

Property Number: 21200220105

Status: Unutilized

Comment: 7402 sq. ft., concrete, needs repair, most recent use—housing, off-site use only

Bldg. 06508

Schofield Barracks

Wahiawa Co: HI 96786-

Landholding Agency: Army

Property Number: 21200220106

Status: Unutilized

Comment: 1140 sq. ft., most recent use—office, off-site use only

Illinois

Bldg. 124

Rock Island Arsenal

Rock Island Co: IL 61299-5000

Landholding Agency: Army

Property Number: 21200220107

Status: Unutilized

Comment: 107 sq. ft., off-site use only

Maryland

Bldg. 00546

Fort Meade

Ft. Meade Co: Anne Arundel MD 20755-

Landholding Agency: Army

Property Number: 21200220109

Status: Unutilized

Comment: 5659 sq. ft., possible asbestos/lead paint, most recent use—admin., off-site use only

Bldg. 00939

Fort Meade

Ft. Meade Co: Anne Arundel MD 20755-

Landholding Agency: Army

Property Number: 21200220110

Status: Unutilized

Comment: 8185 sq. ft., possible asbestos/lead paint, most recent use—admin., off-site use only

Bldg. 02206

Fort Meade

Ft. Meade Co: Anne Arundel MD 29755-

Landholding Agency: Army

Property Number: 21200220111

Status: Unutilized

Comment: 3075 sq. ft., possible asbestos/lead paint, most recent use—admin., off-site use only

Bldg. 02207

Fort Meade

Ft. Meade Co: Anne Arundel MD 20755-

Landholding Agency: Army

Property Number: 21200220112

Status: Unutilized

Comment: 6855 sq. ft., possible asbestos/lead paint, most recent use—storage, off-site use only

Bldg. 02266

Fort Meade

Ft. Meade Co: Anne Arundel MD 20755-

Landholding Agency: Army

Property Number: 21200220113

Status: Unutilized

Comment: 10,080 sq. ft., possible asbestos/lead paint, most recent use—storage, off-site use only

Bldg. 02271

Fort Meade

Ft. Meade Co: Anne Arundel MD 20755-

Landholding Agency: Army

Property Number: 21200220114

Status: Unutilized

Comment: 10,080 sq. ft., possible asbestos/lead paint, most recent use—storage, off-site use only

Bldg. 04675

Fort Meade

Ft. Meade Co: Anne Arundel MD 20755-

Landholding Agency: Army

Property Number: 21200220115

Status: Unutilized

Comment: 1710 sq. ft., possible asbestos/lead paint, most recent use—rental store, off-site use only

Massachusetts

Russell House

Minute Man Natl Historical Pk

112 North Great Road

Lincoln Co: Middlesex MA 01773-

Landholding Agency: Interior

Property Number: 61200220004

Status: Excess

Comment: 2365 sq. ft., off-set use only, moving could be cost prohibitive, must secure all state & local permits/perform site restoration/meet timelines

Downing House

Minute Man Natl Historical Pk

58 Bedford Lane

Lincoln Co: Middlesex MA 01773-

Landholding Agency: Interior

Property Number: 61200220005

Status: Excess

Comment: 1215 sq. ft., off-site use only, moving could be cost prohibitive, must secure all state & local permits/perform site restoration/meet timelines

New Mexico

Bldg. 00304

White Sands Missile Range

Dona Ana Co: NM 88002-

Landholding Agency: Army

Property Number: 21200220116

Status: Excess

Comment: 594 sq. ft., poor condition, presence of asbestos, most recent use—equipment bldg., off-site use only

Bldg. 01711

White Sands Missile Range

Dona Ana Co: NM 88002-

Landholding Agency: Army

Property Number: 21200220117

Status: Excess

Comment: 80 sq. ft., poor condition, presence of asbestos, most recent use—car wash bldg., off-site use only

Bldg. 01716

White Sands Missile Range

Dona Ana Co: NM 88002-

Landholding Agency: Army

Property Number: 21200220118

Status: Excess

Comment: 208 sq. ft., poor condition, presence of asbestos, most recent use—car wash and shed, off-site use only

Bldg. 01758

White Sands Missile Range

Dona Ana Co: NM 88002-

Landholding Agency: Army

Property Number: 21200220119

Status: Excess

Comment: 2160 sq. ft., poor condition, presence of asbestos, most recent use—contractor bldg., off-site use only

Bldg. 01796

White Sands Missile Range

Dona Ana Co: NM 88002-

Landholding Agency: Army

Property Number: 21200220120

Status: Excess

Comment: 1200 sq. ft., poor condition, presence of asbestos, most recent use—admin., off-site use only

Bldg. 21238

White Sands Missile Range

Dona Ana Co: NM 88002-

Landholding Agency: Army

Property Number: 21200220121

Status: Excess

Comment: 675 sq. ft., poor condition, presence of asbestos, most recent use—sentry station, off-site use only

Bldg. 30724

White Sands Missile Range

Dona Ana Co: NM 88002-

Landholding Agency: Army

Property Number: 21200220122

Status: Excess

Comment: 255 sq. ft., poor condition, presence of asbestos, most recent use—rote bldg., off-site use only

Bldg. 30740

White Sands Missile Range

Dona Ana Co: NM 88002-

Landholding Agency: Army

Property Number: 21200220123

Status: Excess

Comment: 466 sq. ft., poor condition, presence of asbestos, most recent use—admin., off-site use only

Bldg. 30775

White Sands Missile Range

Dona Ana Co: NM 88002-

Landholding Agency: Army

Property Number: 21200220124

Status: Excess

Comment: 864 sq. ft., poor condition, presence of asbestos, most recent use—storage, off-site use only

Bldg. 30779

White Sands Missile Range

Dona Ana Co: NM 88002-

Landholding Agency: Army

Property Number: 21200220125

Status: Excess

Comment: 188 sq. ft., poor condition, presence of asbestos, off-site use only

Bldg. 30780

White Sands Missile Range

Dona Ana Co: NM 88002-

Landholding Agency: Army

Property Number: 21200220126

Status: Excess

Comment: 960 sq. ft., poor condition, presence of asbestos, most recent use—maint. shop, off-site use only

Bldg. 31725

White Sands Missile Range

Dona Ana Co: NM 88002-

Landholding Agency: Army

Property Number: 21200220127

Status: Excess

Comment: 4640 sq. ft., poor condition, presence of asbestos, most recent use—storage, off-site use only

Bldg. 31741

White Sands Missile Range

Dona Ana Co: NM 88002-

Landholding Agency: Army

Property Number: 21200220128

Status: Excess

Comment: 1920 sq. ft., poor condition, presence of asbestos, most recent use—maint. shop, off-site use only

Bldg. 31754

White Sands Missile Range

Dona Ana Co: NM 88002-

Landholding Agency: Army

Property Number: 21200220129

Status: Excess

Comment: 2400 sq. ft., poor condition, presence of asbestos, most recent use—warehouse, off-site use only

Bldg. 31765

White Sands Missile Range

Dona Ana Co: NM 88002-

Landholding Agency: Army

Property Number: 21200220130

Status: Excess

Comment: 107 sq. ft., poor condition, presence of asbestos, most recent use—water plant bldg., off-site use only

Pennsylvania

Bldg. 00420

Carlisle Barraks

Carlisle Co: Cumberland PA 17013-

Landholding Agency: Army

Property Number: 21200220131

Status: Unutilized

Comment: 18,233 sq. ft., 3-story, needs rehab, presence of asbestos/radon gas, most recent use—barracks/admin, historic bldg., off-site use only

South Dakota

Alppha Launch Control Fac.

NE of Ellsworth AFB

Quinn Co: Pennington SD 57779-

Landholding Agency: GSA

Property Number: 54200220009

Status: Surplus

Comment: 2 equipment bldgs. consisting of 6307 sq. ft., presence of asbestos/lead paint, deed restrictions

GSA Number: 7-D-SD-521-2A

Tennessee

Federal Building

309 N. Church Street

Dyersburg Co: Dyers TN 38024-

Landholding Agency: GSA

Property Number: 54200220008

Status: Excess

Comment: 24,325 sq. ft., most recent use—office, approx. 65% of bldg. will remain occupied by the U.S. Post Office and U.S. Fish & Wildlife

GSA Number: 4-G-TN-0655

Batten Tract 01-198

Stones River Natl Battlefield

Murfreesboro Co: Rutherford TN 37129-

Landholding Agency: Interior

Property Number: 61200220012

Status: Excess

Comment: 1152 sq. ft., presence of asbestos/lead paint, most recent use—residential, off-site use only

Bell Tract 01-189

Stones River Natl Battlefield

Old Nashville Hwy

Murfreesboro Co: Rutherford TN 37129-

Landholding Agency: Interior

Property Number: 61200220013

Status: Excess

Comment: 1755 sq. ft., most recent use—residential, off-site use only

Simons Tract 01-197

Stones River Natl Battlefield

Nickens Lane

Murfreesboro Co: Rutherford TN 37129-

Landholding Agency: Interior

Property Number: 61200220014

Status: Excess

Comment: 1375 sq. ft., needs extensive repairs, presence of asbestos/lead paint, most recent use—residential, off-site use only

Bldg. 7173

Fort Bliss

El Paso Co: TX 79916-

Landholding Agency: Army

Property Number: 21200220132

Status: Unutilized

Comment: 8855 sq. ft., presence of asbestos/lead paint, most recent use—child development center, off-site use only

Bldg. T5900

Camp Bullis

San Antonio Co: Bexar TX 78257-

Landholding Agency: Army

Property Number: 21200220133

Status: Excess

Comment: 9876 sq. ft., possible lead paint, most recent use—theater/training bldg., off-site use only

Bldg. T6111

Camp Bullis

San Antonio Co: Bexar TX 78257-

Landholding Agency: Army

Property Number: 21200220134

Status: Excess

Comment: 521 sq. ft., possible lead paint, most recent use—gas station, off-site use only

Bldg. T5002

Camp Bullis

San Antonio Co: Bexar TX 78257-

Landholding Agency: Army

Property Number: 21200220135

Status: Excess

Comment: 370 sq. ft., presence of lead paint, off-site use only

Bldgs. 107, 108

Fort Hood

Ft. Hood Co: Bell TX 76544-

Landholding Agency: Army

Property Number: 21200220136

Status: Unutilized

Comment: 13,319 & 28,051 sq. ft., most recent use—admin., off-site use only

Bldg. 120

Fort Hood

Ft. Hood Co: Bell TX 76544-

Landholding Agency: 21200220137

Status: Unutilized

Comment: 1450 sq. ft., most recent use—dental clinic, off-site use only

Bldg. 134

Fort Hood

Ft. Hood Co: Bell TX 76544-

Landholding Agency: Army

Property Number: 21200220138

Status: Unutilized

Comment: 16,114 sq. ft., most recent use—auditorium, off-site use only

Bldg. 56305

Fort Hood

Ft. Hood Co: Bell TX 76544-

Landholding Agency: Army

Property Number: 21200220143

Status: Unutilized

Comment: 2160 sq. ft., most recent use—admin., off-site only

Bldg. 56402

Fort Hood

Ft. Hood Co: Bell TX 76544-

Landholding Agency: Army

Property Number: 21200220144

Status: Unutilized

Comment: 2680 sq. ft., most recent use—recreation center, off-site use only

Bldgs. 56403, 56405

Fort Hood

Ft. Hood Co: Bell TX 76544-

Landholding Agency: Army

Property Number: 2120220145

Status: Unutilized

Comment: 480 sq. ft., most recent use—shower, off-site use only

Bldgs. 56620, 56621

Fort Hood

Ft. Hood Co: Bell TX 76544-

Landholding Agency: Army

Property Number: 21200220146

Status: Unutilized

Comment: 1120 sq. ft., most recent use—shower, off-site use only

Bldgs. 56626, 56627

Fort Hood

Ft. Hood Co: Bell TX 76544-

Landholding Agency: Army

Property Number: 21200220147

Status: Unutilized

Comment: 1120 sq. ft., most recent use—shower, off-site only

Bldg. 56628

Fort Hood

Ft. Hood Co: Bell TX 76544-

Landholding Agency: Army

Property Number: 21200220148

Status: Unutilized

Comment: 1133 sq. ft., most recent use—shower, off-site use only

Bldgs. 56630, 56631

Fort Hood

Ft. Hood Co: Bell TX 76544-

Landholding Agency: Army

Property Number: 21200220149

Status: Unutilized

Comment: 1120 sq. ft., most recent use—shower, off-site use only

Bldgs. 56636, 56637

Fort Hood

Ft. Hood Co: Bell TX 76544-

Landholding Agency: Army

Property Number: 21200220150

Status: Unutilized

Comment: 1120 sq. ft., most recent use—shower, off-site use only

Bldg. 56638

Fort Hood

Ft. Hood Co: Bell TX 76544-

Landholding Agency: Army

Property Number: 21200220151

Status: Unutilized

Comment: 1133 sq. ft., most recent use—shower, off-site use only

Bldgs. 56703, 56708

Fort Hood

Ft. Hood Co: Bell TX 76544-

Landholding Agency: Army

Property Number: 21200220152

Status: Unutilized

Comment: 1306 sq. ft., most recent use—shower, off-site use only

Bldgs. 56750, 56751

Fort Hood

Ft. Hood Co: Bell TX 76544-

Landholding Agency: Army

Property Number: 21200220153

Status: Unutilized

Comment: 1120 sq. ft., most recent use—shower, off-site use only

Bldg. 56758

Fort Hood

Ft. Hood Co: Bell TX 76544-

Landholding Agency: Army

Property Number: 21200220154

Status: Unutilized

Comment: 1133 sq. ft., most recent use—shower, off-site use only

Bldg. P2789

Fort Sam Houston

San Antonio Co: Bexar TX 78234-

Landholding Agency: Army

Property Number: 21200220155

Status: Excess

Comment: 25,784 sq. ft., presence of asbestos/lead paint, provider responsible for hazard abatement, most recent use—dining, Historic Preservation requirement, off-site use only

Bldg. P6202

Fort Sam Houston

San Antonio Co: Bexar TX 78234-

Landholding Agency: Army

Property Number: 21200220156

Status: Excess

Comment: 1479 sq. ft., presence of asbestos/lead paint, provider responsible for hazard abatement, most recent use—officer's family quarters, off-site use only

Bldg. P6203

Fort Sam Houston

San Antonio Co: Bexar TX 78234-

Landholding Agency: Army

Property Number: 21200220157

Status: Excess

Comment: 1381 sq. ft., presence of asbestos/lead paint, provider responsible for hazard abatement, most recent use—military family quarters, off-site use only

Bldg. P6204

Fort Sam Houston

San Antonio Co: Bexar TX 78234-

Landholding Agency: Army

Property Number: 21200220158

Status: Excess

Comment: 1454 sq. ft., presence of asbestos/lead paint, provider responsible for hazard abatement, most recent use—military family quarters, off-site use only

Wyoming

House #16

Seminoe Dam Camp

Rawlins Co: Carbon WY

Landholding Agency: Interior

Property Number: 61200220007

Status: Excess

Comment: 1794 sq. ft., most recent use—residential, off-site use only

House #17

Seminoe Dam Camp

Rawlins Co: Carbon WY

Landholding Agency: Interior

Property Number: 61200220008

Status: Excess

Comment: 1794 sq. ft., most recent use—residential, off-site use only

Alabama

Bldg. 01433

Fort Rucker

Ft. Rucker Co: Dale AL 36362-

Landholding Agency: Army

Property Number: 21200220098

Status: Excess

Comment: 800 sq. ft., most recent use—office, off-site use only

Texas

Bldgs. 4219, 4227

Fort Hood

Ft. Hood Co: Bell TX 76544-

Landholding Agency: Army

Property Number: 21200220139

Status: Unutilized

Comment: 8056 & 10,500 sq. ft., most recent use—admin., off-site use only

Bldgs. 4229, 4230, 4231

Fort Hood

Ft. Hood Co: Bell TX 76544-

Landholding Agency: Army

Property Number: 21200220140

Status: Unutilized

Comment: 9000 sq. ft., most recent use—hq. bldg., off-site use only

Bldgs. 4244, 4246

Fort Hood

Ft. Hood Co: Bell TX 76544-

Landholding Agency: Army

Property Number: 21200220141

Status: Unutilized

Comment: 9000 sq. ft., most recent use—storage, off-site use only

Bldgs. 4260, 4261, 4262

Fort Hood

Ft. Hood Co: Bell TX 76544-

Landholding Agency: Army

Property Number: 21200220142

Status: Unutilized

Comment: 7680 sq. ft., most recent use—storage, off-site use only

Washington

Bldgs. 03272

Fort Lewis

Tacoma Co: Pierce WA 98335-

Landholding Agency: Army

Property Number: 21200220160

Status: Unutilized

Comment: 21,373 sq. ft., most recent use—storage, off-site use only

Unsuitable Properties

Buildings (by State)

Alaska

Longhouse

U.S. Coast Guard

Valdez Co: AK 99686-

Landholding Agency: DOT

Property Number: 87200220006

Status: Excess

Reason: Extensive deterioration

California

Bldg. 4090

Yosemite National Park

7977 Forest Dr.

Wawona Co: Mariposa CA 95389-

Landholding Agency: Interior

Property Number: 61200220002

Status: Unutilized

Reason: Extensive deterioration

Bldg. 4090

Yosemite National Park

7977 Forest Dr.

Wawona Co: Mariposa CA 95389-

Landholding Agency: Interior

Property Number: 61200220002

Status: Unutilized

Reason: Extensive deterioration

Bldg. 4190

Yosemite National Park

7977 Forest Dr.

Wawona Co: Mariposa CA 95389-

Landholding Agency: Interior

Property Number: 61200220003

Status: Unutilized

Reason: Extensive deterioration

Bldg. 2254

Marine Corps Air Station

Miramar Co: CA

Landholding Agency: Navy

Property Number: 77200220027

Status: Unutilized

Reason: Extensive deterioration

Bldg. 24002

Marine Corps Air Station

Miramar CO: CA

Landholding Agency: Navy

Property Number: 77200220028

Status: Unutilized

Reason: Extensive deterioration

Bldg. 9496

Marine Corps Air Station

Miramar Co: CA

Landholding Agency: Navy

Property Number: 77200220029

Status: Unutilized

Reason: Extensive deterioration

Colorado

Nelson Cabin

Tract No. 01-108

National Monument

Florissant Co: Teller Co 80816-

Landholding Agency: Interior

Property Number: 61200220009

Status: Unutilized

Reason: No legal access

Maryland

Bldg. 585

Naval Air Station

Patuxent River Co: MD

Landholding Agency: Navy

Property Number: 77200220030

Status: Excess

Reason: Extensive deterioration

Montana

Relocatable House

Yellowtail Dam

Fort Smith Co: Big Horn MT 59035-

Landholding Agency: Interior

Property Number: 61200220006

Status: Excess

Reason: Extensive deterioration

Tennessee

4 Bldgs.

Y-12 Natl Security Complex

9418-4, 9418-5, 9418-6, 9418-9

Oak Ridge Co: Anderson TN 37831-

Landholding Agency: Energy

Property Number: 41200220038

Status: Unutilized

Reason: Secured Area

Bldg. 9620-2

Y-12 Natl Security Complex

Oak Ridge Co: Anderson TN 37831-

Landholding Agency: Energy

Property Number: 41200220039

Status: Unutilized

Reason: Secured Area, Extensive deterioration

Bldgs. 9769, 9770-3

Y-12 Natl Security Complex

Oak Ridge Co: Anderson TN 37831-

Landholding Agency: Energy

Property Number: 41200220040

Status: Unutilized

Reason: Secured Area

Bldgs. 9720-1, 9720-2

Y-12 Natl Security Complex

Oak Ridge Co: Anderson TN 37831-

Landholding Agency: Energy

Property Number: 41200220041

Status: Unutilized

Reason: Secured Area, Extensive deterioration

Texas

Tract No. 126-14

Big Thicket Natl Preserve

Rye Co: Liberty TX

Landholding Agency: Interior

Property Number: 61200220010

Status: Unutilized

Reason: Extensive deterioration

Virginia

Bldg. 002

USCG Eastern Shore

Chincoteague Co: Accomak VA 23336-

Landholding Agency: DOT

Property Number: 87200220007

Status: Excess

Reason: Secured Area

[FR Doc. 02-12077 Filed 5-16-02; 8:45 am]

BILLING CODE 4210-29-M